FEDERAL COMMUNICATIONS COMMISSION

Radio Broadcasting Services; AM or FM Proposals To Change the Community of License

AGENCY: Federal Communications Commission.

ACTION: Notice.

DATES: The agency must receive comments on or before January 21, 2020.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: OMNI BROADCASTING, LLC, WTKP(FM), Fac. ID No. 67579, Channel 229C3, From: YOUNGSTOWN, FL, To: PORT ST. JOE, FL, File No. 0000082907; SUN MEDIA, INC., WJLI(FM), Fac. ID No. 63817, Channel 252C1, From: PADUCAH, KY, To: METROPOLIS, IL, File No. 0000082340; HI-LINE RADIO FELLOWSHIP INC., KZLM(FM), Fac. ID No. 171025, Channel 300A, From: HARLOWTON, MT, To: LEWISTOWN, MT, File No. BPED-20190815ABG; KIZART MEDIA PARTNERSHIP, NEW(FM), Fac. ID No. 198799, FROM: Cleveland, MS, TO: Shaw, MS, File No. BNPH-20151013ADH; and SALEM COMMUNICATIONS HOLDING CORPORATION, WBZW(AM), Fac. ID No. 1185, Channel 1520 kHz, From: Apopka, FL, To: Fairview Shores, FL, File No. BP-20191114AAX.

The full text of these applications is available for inspection and copying during normal business hours in the Commission's Reference Center, 445 12th Street SW, Washington, DC 20554 or electronically via the Media Bureau's Consolidated Data Base System, http://licensing.fcc.gov/prod/cdbs/pubacc/prod/app_sear.htm. and the Licensing and Management System (LMS), https://apps2int.fcc.gov/dataentry/public/tv/publicAppSearch.html.

Federal Communications Commission.
Nazifa Sawez,
Assistant Chief, Audio Division, Media Bureau.

[FR Doc. 2019-25396 Filed 11-21-19; 8:45 am]

BILLING CODE 6712-01-P